DEPARTMENT OF HEALTH AND HUMAN SERVICES

Centers for Disease Control and Prevention

Advisory Council for the Elimination of Tuberculosis (ACET); Notice of Charter Renewal

AGENCY: Centers for Disease Control and Prevention (CDC), Department of Health and Human Services (HHS).

ACTION: Notice of charter renewal.

SUMMARY: This gives notice under the Federal Advisory Committee Act of October 6, 1972, that the Advisory Council for the Elimination of Tuberculosis Meeting (ACET), Centers for Disease Control and Prevention, Department of Health and Human Services, has been renewed for a 2-year period through March 15, 2021.

FOR FURTHER INFORMATION CONTACT: Hazel Dean, ScD, DrPH (Hon), FACE, Designated Federal Officer, Advisory Council for the Elimination of Tuberculosis (ACET), CDC, HHS, 1600 Clifton Road, NE, Mailstop: E-07, Atlanta, Georgia, 30329-4027, Telephone 404/639-8000; hdd0@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-05592 Filed 3-22-19; 8:45 am]

BILLING CODE 4163-18-P